DEPARTMENT OF COMMERCE

National Oceanic and Atmospheric Administration

50 CFR Part 679

[I. D. 031903E]

Fisheries of the Exclusive Economic Zone off Alaska; Application for an Exempted Fishing Permit

AGENCY: National Marine Fisheries Service (NMFS), National Oceanic and Atmospheric Administration (NOAA), Commerce.

ACTION: Notice of receipt of an application for an exempted fishing permit.

SUMMARY: This notice announces receipt of an application for an exempted fishing permit (EFP) from Mr. John Gauvin and Mr. Brent Paine. If granted, this permit would be used to test salmon excluder devices in the Bering Sea pollock trawl fishery. It is intended to promote the objectives of the Fishery Management Plan for the Groundfish Fishery of the Bering Sea and Aleutian Islands Area (FMP) by testing methods of reducing salmon bycatch in the Bering Sea pollock trawl fishery.

ADDRESSES: Copies of the EFP application are available by writing to Sue Salveson, Assistant Regional Administrator for Sustainable Fisheries, Alaska Region, NMFS, P. O. Box 21668, Juneau, AK 99802, Attn: Lori Durall.

FOR FURTHER INFORMATION CONTACT: Melanie Brown, 907-586-7228 or melanie.brown@noaa.gov.

SUPPLEMENTARY INFORMATION: NMFS manages the domestic groundfish fisheries in the Bering Sea and Aleutian Islands Management Area (BSAI) under the FMP. The North Pacific Fishery Management Council (Council) prepared the FMP under the Magnuson-Stevens Fishery Conservation and Management Act. Regulations governing the groundfish fisheries of the BSAI appear at 50 CFR parts 600 and 679. The FMP and the implementing regulations at §§ 679.6 and 600.745(b) authorize issuance of EFPs to allow fishing that would otherwise be prohibited. Procedures for issuing EFPs are contained in the implementing regulations. The information gathered through this EFP may lead to future rulemakings.

NMFS received an application for an EFP from Mr. John Gauvin and Mr. Brent Paine. The purpose of the EFP is to test the effectiveness of salmon excluder devices for pollock trawls. The goal is to develop a device for pollock trawls that reduces salmon bycatch without significantly lowering catch rates of pollock.

The EFP is necessary to allow the applicants to demonstrate whether such a device could be developed to reduce salmon bycatch. The taking of salmon during the experiment is crucial for determining the effectiveness of the device. Salmon taken during the experiment will not be counted toward the Chinook and Chum bycatch limits under § 679.21(e)(1)(vii) and (viii). The potential exists that the amount of pollock trawl salmon bycatch by the industry during the EFP period would approach or exceed the salmon bycatch limits. The additional salmon taken during the experiment would create an additional burden on the pollock trawl industry and may lead to closures of the salmon savings areas, if the EFP salmon is counted toward the salmon bycatch limits. Approximately 200 Chum salmon and 30 Chinook salmon are required to support the experiment, well below the BSAI annual limits of 33,000 chinook salmon and 42,000 chum salmon.

The applicants have also requested an exemption from closures of the Chinook Salmon Savings Area and the Chum Salmon Savings Area (§ 679.21(e)(7)(vii) and (viii)). The experiment must be conducted in areas of salmon concentration to ensure a sufficient sample size. The salmon savings areas are areas of known concentration of salmon and provide an ideal location for conducting the experiment and ensuring that the vessel encounters concentrations of salmon.

Groundfish taken under the EFP also would not be applied to the total allowable catch (TAC) limit specified in the annual harvest specifications (§ 679.20), but the amount taken is expected to result in total groundfish harvests well below the acceptable biological catch (ABC) amounts for the BSAI. A total of approximately 2,270 metric tons (mt) of Bering Sea pollock would be taken in the fall of 2003 and the spring of 2004 and would not be included in the harvest applied against the Bering Sea pollock TAC of approximately 1.5 mt. The Bering Sea pollock ABC is 2.33 million mt, well above the combined TAC and the additional harvest anticipated from the experiment.

These levels of harvest and manner of harvest are not expected to have a significant impact on the marine environment, but the potential effects on the marine environment will be further analyzed during review of the application.

In accordance with § 679.6, NMFS has determined that the proposal warrants further consideration and has initiated consultation with the Council by forwarding the application to the Council. The Council will consider the EFP application during its April 3-8, 2003, meeting which will be held at the Hilton Hotel, Anchorage, Alaska. The applicants have been invited to appear in support of the application, if the applicants desire. Interested persons may comment on the application at the Council meeting during public testimony.

A copy of the application is available for review from NMFS (see ADDRESSES).

Based on the results of this EFP, this action may lead to future rulemaking.

Authority: 16 U.S.C. 1801 et seq.

Dated: April 9, 2003.
Richard W. Surdi,
Acting Director, Office of Sustainable Fisheries, National Marine Fisheries Service

[FR Doc. 03-9231 Filed 4-14-03; 8:45 am]

BILLING CODE 3510-22-S